DEPARTMENT OF ENERGY

Proposed Agency Information Collection Submitted for OMB Review and Comment

AGENCY: U.S. Department of Energy.

ACTION: Notice and request for OMB review and comment.

SUMMARY: The Department of Energy (DOE) has submitted to the Office of Management and Budget (OMB) for clearance, a proposal for collection of information under the provisions of the Paperwork Reduction Act of 1995. The Office of Science reports annually in the President's Budget Request the numbers of researchers, post docs, graduate students and technicians supported through Research Grants and Field Work Proposals (FWPs). However, these data are based on forecasts by the principal investigator (i.e., PIs) at the time the grants and FWPs were initially funded. These estimates are unreliable because they are based on the best guess of the PIs at the time of funding. While the PI's initial estimate could be accurate at the time of the request, the reliability of the initial estimate decreases as the project matures. Further, the forecasts by the PIs are subjective. Therefore, it is not possible to quantify the inaccuracies with any confidence. To better plan for future investments, the Office of Science must better understand the actual impact of its budget on the technical manpower supported. A short (approximately 17 minutes) web-based survey has been developed to collect actual workforce data from a small sample of researchers currently supported by the Office of Science. The result will be compared to proposal data to estimate the average and range of variation and to derive a statistically valid methodology for approximating budgetary impacts on the technical manpower supported.

DATES: Comments regarding this collection must be received on or before June 15, 2006. If you anticipate that you will be submitting comments, but find it difficult to do so within the period of time allowed by this notice, please advise the OMB Desk Officer of your intention to make a submission as soon as possible. The Desk Officer may be telephoned at 202-395-3087.

ADDRESSES: Written comments should be sent to the DOE Desk Officer, Office of Information and Regulatory Affairs, Office of Management and Budget, New Executive Office Building, Room 10102, 735 17th Street, NW., Washington, DC 20503. (Comments should also be addressed to Jeffrey Martus, Records Management Division IM-11/Germantown Bldg., Office of Business and Information Management, Office of the Chief Information Officer, U.S. Department of Energy, 1000 Independence Avenue, SW., Washington, DC 20585-1290, and to Christine A. Chalk, U.S. Department of Energy, 1000 Independence Avenue, SW., Washington, DC 20585.

FOR FURTHER INFORMATION CONTACT: Requests for additional information or copies of the information collection instrument and instructions should be directed to Christine A. Chalk.

SUPPLEMENTARY INFORMATION: This package contains: (1) OMB No. “New”; (2) Package Title: DOE 2005 Technical Manpower Online Survey (3) Type of Review: New; (4) Purpose: {enter a brief description of the need for the information and its proposed use}; (5) Respondents: 366; (6) Estimated Number of Burden Hours: Approximately 17 minutes per respondent times 366 respondents is 103.7 hours.

Statutory Authority: Department of Energy Organization Act (Pub. L. 95-91, as amended) Sec. 209 defines the duty and the responsibilities of the Director of Office of Science to include: Advising the Secretary with respect to education and training activities required for effective short and long-term basic and applied research activities of the Department; and Advising the Secretary with respect to grants and other forms of financial assistance required for effective short and long-term basic and applied research activities of the Department.

Jeffrey Martus,
Records Management Division, Office of Business and Information Management, Office of the Chief Information Officer (IM-11).

[FR Doc. E6-7413 Filed 5-15-06; 8:45 am]

BILLING CODE 6450-01-P